FEDERAL ACCOUNTING STANDARDS ADVISORY BOARD

Notice of Issuance of Statement of Federal Financial Accounting Standards 63, Omnibus Amendments 2024-1: Amending SFFAS 38, 49, and Technical Bulletin 2011-1

AGENCY: Federal Accounting Standards Advisory Board.

ACTION: Notice.

SUMMARY: Notice is hereby given that the Federal Accounting Standards Advisory Board has issued Statement of Federal Financial Accounting Standards (SFFAS) 63 titled Omnibus Amendments 2024-1: Amending SFFAS 38, 49, and Technical Bulletin 2011-1.

ADDRESSES: SFFAS 63 is available on the FASAB website at http://www.fasab.gov/accounting-standards/. Copies can be obtained by contacting FASAB at (202) 512-7350.

FOR FURTHER INFORMATION CONTACT: Ms. Monica R. Valentine, Executive Director, 441 G Street NW, Suite 1155, Washington, DC 20548, or call (202) 512-7350.

Authority: 31 U.S.C. 3511(d); Federal Advisory Committee Act, 5 U.S.C. 1001-1014.

Dated: April 12, 2024.
Monica R. Valentine,
Executive Director.

[FR Doc. 2024-08193 Filed 4-16-24; 8:45 am]

BILLING CODE 1610-02-P